DEPARTMENT OF ENERGY

Office of Arms Control and Nonproliferation; Proposed Subsequent Arrangement

AGENCY: Department of Energy.

ACTION: Notice of proposed subsequent arrangement.

SUMMARY: This notice is being issued under the authority of Section 131 of the Atomic Energy Act of 1954, as amended (42 U.S.C. 2160). The Department is providing notice of a proposed “subsequent arrangement” under Article 6 paragraph 2 of the Agreement for Cooperation Between the Government of the United States of America and the Government of the Argentine Republic Concerning Peaceful Uses of Nuclear Energy.

This subsequent arrangement concerns the recovery and blend down of 8,330 grams of U.S.-obligated uranium, of which 7,480 g is in the isotope uranium-235 (U-235), for fabrication into low-enriched uranium (LEU) MTR type fuel elements. The LEU fuel elements will replace the high-enriched core in the Comision Nacional de Energia Atomica (CNEA) RA-6 and for the CNEA RA-3 Molybdenum-99 research and production reactor. 1,930 g of the total uranium amount (1,730 g U-235) is irradiated and will be dissolved in order to recover the resulting strontium-90 and cesium-137. The strontium-90 will be used in the production of generators for nuclear medicine and the cesium-137 will be used in the fabrication of sealed sources for medical and industrial purposes. Both the strontium-90 and cesium-137 will be controlled under the International Atomic Energy Agency's Code of Conduct on the Safety and Security of Radioactive Sources. The remaining amount of uranium is unirradiated and will be blended down in order to reduce its enrichment to less than 20 percent U-235. CNEA personnel will perform the blend down operations in specified hot cells and laboratory facilities under IAEA safeguards at CNEA’s Ezeiza Atomic Center near Buenos Aires.

In accordance with Section 131 of the Atomic Energy Act of 1954, as amended, we have determined that this subsequent arrangement will not be inimical to the common defense and security.

This subsequent arrangement will take effect no sooner than fifteen days after the date of publication of this notice.

Dated: July 1, 2004.
For the Department of Energy.
Kurt Siemon,
Acting Director, Office of Nonproliferation Policy.

[FR Doc. 04-15624 Filed 7-8-04; 8:45 am]

BILLING CODE 6450-01-P